DEPARTMENT OF COMMERCE

National Oceanic and Atmospheric Administration

RIN 0648-XE205

Atlantic Coastal Fisheries Cooperative Management Act Provisions; American Eel Fishery

AGENCY: National Marine Fisheries Service (NMFS), National Oceanic and Atmospheric Administration (NOAA), Commerce.

ACTION: Notice of withdrawal of federal moratorium.

SUMMARY: NMFS announces the withdrawal of the Federal moratorium on fishing for American eel in the State waters of Delaware. NMFS withdraws the moratorium, as required by the Atlantic Coastal Fisheries Cooperative Management Act (Atlantic Coastal Act), based on the determination that Delaware is now in compliance with the Atlantic States Marine Fisheries Commission's (Commission) Interstate Fishery Management Plan for American Eel.

DATES: Effective March 15, 2016

ADDRESSES: Alan Risenhoover, Director, Office of Sustainable Fisheries, NMFS, 1315 East-West Highway, Room 13362, Silver Spring, MD 20910.

FOR FURTHER INFORMATION CONTACT: Derek Orner, Fishery Management Specialist, NMFS Office of Sustainable Fisheries, (301) 427-8567; derek.orner@noaa.gov.

SUPPLEMENTARY INFORMATION:

Background

On August 6, 2015, the Commission found that the State of Delaware was out of compliance with the Commission's American Eel Plan. Specifically, the Commission found that Delaware had not implemented regulations that are necessary to rebuild the depleted American eel stock, and to ensure sustainable commercial and recreational harvest while preventing over-harvest of any eel life stage. The Commission forwarded its findings of their August 6th vote in a formal non-compliance referral letter that was received by NMFS on August 19, 2015. On September 18, 2015, NMFS notified the State of Delaware and the Commission of its determination that Delaware failed to carry out its responsibilities under the Commission's American Eel Plan and that the measures Delaware had failed to implement and enforce are necessary for the conservation of the eel resource. In this determination and notification, NMFS detailed the actions necessary to avoid the implementation of a Federal moratorium for eel in Delaware waters. Details of this determination were provided in a Federal Register notice published on September 23, 2015 (80 FR 57343), and are not repeated here.

Activities Pursuant to the Atlantic Coastal Act

The Atlantic Coastal Act specifies that, if, after a moratorium is declared with respect to a State, the Secretary is notified by the Commission that it is withdrawing the determination of noncompliance, the Secretary shall immediately determine whether the State is in compliance with the applicable plan. If the State is determined to be in compliance, the moratorium shall be withdrawn. On February 4, 2016, NMFS received a letter from the Commission that Delaware had taken corrective action to comply with the American Eel Plan, and that the Commission has withdrawn its determination of noncompliance.

Withdrawal of the Moratorium

Based on the Commission's February 2, 2016, letter, information received from the State of Delaware, and NMFS review of Delaware's revised American eel regulations, NMFS concurs with the Commission's determination that Delaware is now in compliance with the American Eel Plan. Specifically, NMFS reviewed the ASMFC Eel Plan and Delaware's recently approved American eel management measures. The management measures implement a program that is consistent with the American eel management program set by the Commission to conserve eels and achieve the objectives specified in the Plan. Therefore, we concur with the Commission's finding that Delaware is now in compliance and that a moratorium is no longer necessary to conserve the fishery. The moratorium scheduled to be effective on March 18, 2016, on fishing for, possession of, and landing of American eel by the recreational and commercial fishermen within Delaware waters is withdrawn.

Authority: 16 U.S.C. 5101 et seq.

Dated: March 10, 2016.
Emily H. Menashes,
Acting Director, Office of Sustainable Fisheries, National Marine Fisheries Service.

[FR Doc. 2016-05804 Filed 3-14-16; 8:45 am]

BILLING CODE 3510-22-P